DEPARTMENT OF TRANSPORTATION

Federal Railroad Administration

Petition for Special Approval of Alternate Standard

In accordance with Section 21, Part 238 of Title 49 Code of Federal Regulations (CFR), notice is hereby given that the Federal Railroad Administration (FRA) received a request for special approval of an alternate standard of compliance for certain requirements of railroad safety standards. The individual petition is described below, including the party seeking relief, the regulatory provisions involved, the nature of the relief being requested, and the petitioner's arguments in favor of relief.

National Railroad Passenger Corporation (Amtrak) Special Approval Petition Docket Number FRA-2003-16666

The National Railroad Passenger Corporation (Amtrak) seeks approval for use of an alternate standard to comply with section 311 of the Passenger Equipment Safety Standards (49 CFR part 238) for single car testing of passenger car brakes. Section 311 requires single car brake tests to be performed in accordance with either APTA Standard SS-M-005-98, “Code of Tests for Passenger Car Equipment Using Single Car Testing Device,” published March 1999, or with an alternative procedure approved by FRA pursuant to 49 C.F.R. 238.21. Amtrak requests an alternate standard for single car brake tests on “Talgo” train sets utilized by Amtrak.

Amtrak states that although Talgo brake equipment can receive the single car test utilizing the APTA standard, the proposed alternate standard would allow a semi-permanently coupled train set to remain coupled during testing. Amtrak indicates that the proposed alternate procedure on shorter length cars combined with reduced brake pipe volume would produce air flow rates not compatible with the APTA standard. During the brake pipe leakage test, the APTA standard allows for a 5-PSI drop in pressure for one minute in a single car, while the alternate Talgo standard allows only a 4.3-PSI drop in 30 minutes for the entire train set (normally 12 to 14 cars). In the service stability test, the APTA standard allows the brake cylinder pressure to increase by three PSI in one minute. In the alternate Talgo brake test procedure, an increase of 1.5 PSI occurs during the same time frame. The control valve leakage test in the APTA standard allows a 2-PSI-per-minute leakage rate. In the alternate Talgo procedure, leakage is not allowed.

Amtrak has supplied a copy of the alternate Talgo standard, a statement affirming that Amtrak has served a copy of the petition on designated representatives of its employees, and a list of the names and addresses of the persons served. These documents are available in the docket for this proceeding.

You may participate in this proceeding by submitting written views, data, or comments. Include the basis upon which you are supplying the information or comment and submit a concise statement of your particular interest in the proceeding. FRA does not anticipate scheduling a public hearing in connection with this proceeding because the facts do not appear to warrant a hearing. However, if you desire an opportunity to present an oral comment, please notify FRA, in writing, before the end of the comment period and specify the basis for your request.

Identify all of your communications with the appropriate docket number (FRA-2003-16666) and submit them to the Docket Clerk, DOT Docket Management Facility, Room PL-401 (Plaza Level), 400 7th Street, SW., Washington, DC 20590. Communications received within 30 days of the date of this notice will be considered by FRA before final action is taken. Comments received after that date will be considered as far as practicable. You may examine all written communications concerning this proceeding during regular business hours (9 a.m.-5 p.m.) at the above facility. You also may view all documents in the public docket via the Internet by visiting the docket facility's Web site at http://dms.dot.gov and searching by the docket number for this proceeding.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on January 8, 2004.
Grady C. Cothen, Jr.,
Deputy Associate Administrator for Safety Standards and Program Development.

[FR Doc. 04-704 Filed 1-12-04; 8:45 am]

BILLING CODE 4910-06-P